DEPARTMENT OF AGRICULTURE

Development of Technical Guidelines and Scientific Methods for Quantifying GHG Emissions and Carbon Sequestration for Agricultural and Forestry Activities

AGENCY: Office of the Chief Economist, U.S. Department of Agriculture.

ACTION: Notice of project undertaken to develop technical guidelines and scientific methods for quantifying greenhouse gas (GHG) emissions and carbon sequestration at the practice-, process-, farm- and entity-scales.

SUMMARY: Section 2709 of the Food, Conservation and Energy Act of 2008 states that: USDA shall prepare technical guidelines that outline science-based methods to measure the carbon benefits from conservation and land management activities. In accordance with Section 2709 of the 2008 Farm Bill, USDA is developing technical guidelines and science-based methods to quantify greenhouse gas sources and sinks from the agriculture and forest sectors at the entity-,process-, and practice-scale. USDA intends to develop guidelines and methods that are verifiable and that demonstrate scientific rigor, transparency, scalability, and usability. USDA anticipates that the methods will be used by farmers and by USDA to improve management practices and to identify actions to reduce greenhouse gas emissions and increase carbon sequestration. The guidelines and methods could be used by farmers, ranchers, and forest owners to facilitate their participation in voluntary State and regional systems. In order to make the guidelines and methods most useful to a broad audience, a Web-based, user-friendly tool will be developed following the drafting of the guidelines and methods.

In carrying out this project, USDA will consult with Federal and State government agencies; farm, ranch, and forest producers; as well as other interested parties. At the Federal level, this consultation will minimize duplication of efforts and ensure consistency of the products with other U.S. Government inventory and estimation approaches. USDA anticipates that after they are developed, reviewed, and published, the Technical Guidelines, combined with the user-friendly tool for GHG quantification, will assist farmers, ranchers, and forest owners in improving management practices and identifying actions to reduce greenhouse gas emissions and increase carbon sequestration, and could facilitate their participation in voluntary State and regional systems.

Comments received under this notice will be used in determining the scope of the effort, strengthening the proposed project approach, ensuring that relevant information and data are considered, improving the rigor of the guidelines, and enhancing the usability of the methods. USDA is interested in your comments in response to the numbered topics, categories and questions shown in the supplementary information section of this notice. When submitting your responses, please categorize your comments as per the section number designations noted. Be specific and concise. All information received will be included in the public docket without change and made available online at http://www.regulations.gov, including any personal information provided.

Responses to this notice are not offers and cannot be accepted by the Government to form a binding contract or issue a grant. Information obtained as a result of this request may be used by the government for program planning on a non-attribution basis. Do not include any information that might be considered proprietary or confidential.

DATES: Responses to this notice should be submitted by 11:59 pm Eastern Time on April 19, 2011.

ADDRESSES: Responses to this notice must be submitted electronically through the regulations.gov portal at http://www.regulations.gov. Follow the online instructions for submitting comments. The http://www.regulations.gov Web site is an “anonymous access” system, which means USDA will not know your identity or contact information unless you provide it in the body of your comment. If you are unable to submit your responses through the Web portal, then consider these alternative delivery methods:

• Via e-mail to techguide@oce.usda.gov;

• Via fax to 202-401-1176; or,

• Via hand or courier delivery to Marlen Eve, USDA Climate Change Program Office, 1400 Independence Ave., SW., Room 4407 South Bldg, Washington, DC 20250.

Responses submitted through e-mail, fax or courier will be recorded in full, including any identity and contact information.

FOR FURTHER INFORMATION CONTACT: Any questions about the content of this request should be sent to Marlen Eve, USDA Climate Change Program Office, via E-mail techguide@oce.usda.gov, Telephone 202-401-0979, or Fax 202-401-1176. Additional information on this request and the project can be found at http://www.usda.gov/oce/climate_change/techguide.

SUPPLEMENTARY INFORMATION: The Climate Change Program Office (CCPO) operates within the Office of the Chief Economist at USDA and functions as the Department-wide coordinator of agriculture, rural and forestry-related climate change program and policy issues facing USDA. The CCPO ensures that USDA is a source of objective, analytical assessments of the effects of climate change and proposed response strategies. This project addresses the need for a scientifically sound, Department-wide guideline for quantifying GHG emissions and carbon sequestration at the farm- and entity-scale. The products developed by this project will be useful in assessing the carbon and GHG related environmental service benefits of various agricultural and forestry management practices and technologies. Supplementary information on the project is included below.

1. Project scope. USDA is embarking on an effort to create a “stand alone” set of GHG inventory guidelines that builds upon existing inventory efforts such as the Department of Energy's Voluntary Greenhouse Gas Reporting Program 1605(b) Guidelines, with an aim of providing simple, transparent and robust inventory and reporting tools. As much as is possible, the guidelines, methods, and reporting tools developed in this project will utilize and extend data and tools currently available publically. The guidelines and methods are not intended as an addition to or replacement of any current Federal GHG reporting systems or requirements. The guidelines will be prepared for direct greenhouse gas emissions and carbon sequestration from agricultural and forestry processes. USDA does not plan to develop technical guidelines for indirect greenhouse gas emissions/sequestration, or address issues related to crediting reductions such as additionality or leakage under this effort. The guidelines being developed by USDA will be used within the Department and by farmers, ranchers, and forest land owners, and will be made publicly available. To ensure the project deliverables are of benefit to the widest possible set of stakeholders (including USDA, other Federal agencies, private landowners, private and public GHG registries, NGO's, private industry, policy-makers and others) the process of developing the guidelines, methods, and reporting tools will emphasize scientific rigor, transparency, internal consistency, and reducing uncertainty. We anticipate that the guidelines will need to be reviewed and may need to be amended before being adopted by other agencies or public or private registries. Specific potential uses of the project deliverables include aiding: (1) USDA in assessing GHG and carbon sequestration increases and decreases resulting from current and future conservation programs and practices; (2) USDA and others in evaluating and improving national and regional GHG inventory efforts; and (3) landowners, NGOs, and other groups assessing increases and decreases in GHG emissions and carbon sequestration associated with changes in land management. The project is planned for completion within the next three years.

Specifically, USDA requests comments on:

1.1 How may USDA best improve upon existing greenhouse gas estimation guidelines for the agriculture and forestry sectors, while at the same time simplifying input requirements and enhancing the ease of use for individuals and entities?

1.2 USDA intends to develop a standard set of methods for practice-, process-, farm- and entity-scale inventories which could provide a technical basis for improved methods for current voluntary State and regional systems. Are there specific areas where a USDA guideline would be most useful to current State and regional systems? Are there limitations to using the proposed quantification tools in the context of State and regional systems?

2. Objectives. The guidelines will result in a methodology for an integrated emissions inventory at the entity scale for all agricultural (crop and livestock) and forest management activities, including (but not limited to) those listed below:

2.1 Cropland Agriculture

2.1.1 Crop, residue and soil management practices and technologies to increase carbon sequestration and reduce nitrous oxide emissions on mineral and cultivated wetland soils, including tillage systems, crop rotations, nutrient management, fertilizer technologies, liming, water management, cover crops, agroforestry, wetland restoration, residue removal and alternatives to biomass burning.

2.1.2 Rice cultivation practices and technologies to reduce methane emissions, including improved water table management, cultivation and fertilizer management.

2.1.3 Are there specialty crops where specific changes in management can greatly reduce GHG emissions or increase carbon sequestration that should be considered to enhance completeness and comprehensiveness of the guidelines, estimation and reporting tools?

2.1.4 Are there additional cropland activities, management practices or technologies to be accounted for to enhance completeness and comprehensiveness of the guidelines, estimation and reporting tools?

2.2 Animal Agriculture

2.2.1 Management practices and technologies to reduce methane emissions from enteric fermentation, including dietary modification, additives, feeding management, and reproductive management (genetic selection, gender differences, etc.).

2.2.2 Grazing land management practices and technologies to increase carbon sequestration and reduce nitrous oxide emissions, including rotational grazing and improved forage management.

2.2.3 Manure management practices and technologies to reduce methane and nitrous oxide emissions, including digesters, lagoon management, land application practices, and composting.

2.2.4 Are there additional grazing land and animal agriculture activities, management practices or technologies to be accounted for to enhance completeness and comprehensiveness of the guidelines, estimation and reporting tools?

2.3 Forests and Afforestation

2.3.1 Afforestation practices and technologies to increase carbon sequestration.

2.3.2 Forest management practices and technologies to reduce GHG emissions or increase carbon sequestration, including stand thinning, restoration, fertilization, and species selection.

2.3.3 Agroforestry practices and technologies to increase carbon sequestration through windbreaks, riparian buffers and silvopasture.

2.3.4 Forest preservation to reduce the risk of GHG emissions from fire, pests and disease.

2.3.5 Wood products management to reduce waste, increase product longevity and reduce the risk of GHG emissions from fire or decay.

2.3.6 Are there additional forest activities, management practices, equipment or technologies to be considered to enhance completeness and comprehensiveness of the guidelines, estimation and reporting tools?

The methods and tools will quantify all significant emissions and sinks associated with the management activities, thereby creating a standardized way to document changes in emissions and carbon sequestration resulting from conservation efforts and changing land and forest management practices. We envision the methods and tools being especially useful to USDA in evaluating the GHG-related environmental services benefits of conservation and renewable energy programs.

2.4 Are there sources of information relevant to the objectives of this project which can be made available to the author teams? If so, please provide this information or the name and contact details for the correspondent.

2.5 Are there opportunities to reduce GHG emissions and increase carbon sequestration in the agriculture and forestry sectors that should be reflected in the methods?

2.6 USDA intends to rely on engineering calculations, models, and observations as primary methodological approaches. How can USDA balance rigor while maintaining broad applicability, national consistency, and user friendliness?

2.7 What models and tools currently exist for farm- or entity- scale GHG inventory and reporting, and how might they be useful to the current project objectives? For each model noted, provide a source citation for information on the model.

3. Criteria. There are several key criteria that USDA will rely on in preparing the GHG guidelines, including the following:

3.1 Transparency means that the assumptions and methodologies used for an inventory should be clearly explained to facilitate replication and assessment of the inventory by users of the reported information. The transparency of inventories is fundamental to the success of the process for the communication and consideration of information.

3.2 Consistency means that the methods used to generate inventory estimates should be internally consistent in all its elements and the estimates should be consistent with other years. An inventory is consistent if the same methodologies are used for the base and all subsequent years and if consistent data sets are used to estimate emissions or removals from sources or sinks. Consistency is an important consideration in merging differing estimation techniques from diverse technologies and management practices.

3.3 Comparability requires that the estimates of emissions and sequestration being reported by one entity are comparable to the estimates being reported by others. For this purpose, entities should use common methodologies and formats for estimating and reporting inventories. Comparability is an important consideration in determining whether the guidelines specifies one method (for any technology or management practice) or allows users to select from a menu of methods.

3.4 Completeness means that an inventory covers all sources and sinks, as well as all greenhouse gases. Completeness also means full coverage of sources and sinks under the control of the entity. Completeness is an important consideration to be balanced with ease of use in reporting appropriately for an entity that may have a minor activity or an activity with severely limited data availability.

3.5 Accuracy is a relative measure of the exactness of an emission or removal estimate. Estimates should be accurate in the sense that they are systematically neither over nor under true emissions or removals, as far as can be judged, and that uncertainties are reduced as far as practicable.

3.6 Cost effectiveness is a measure of the relative costs and benefits of additional efforts to improve inventory estimates or reduce uncertainty.

3.7 Ease of use is a measure of the complexity of the user interface and underlying data requirements.

3.8 Are these appropriate criteria by which to formulate GHG estimation and reporting guidelines, methods and tools? Are there other criteria that should also be considered?

3.9 To the extent that there are tradeoffs, which criteria are more important than others in ensuring the usefulness of the project products for entity-scale estimation and reporting?

4. Expected outcomes and products. The project is expected to yield the following products.

4.1 A review of techniques currently in use for estimating carbon stocks and fluxes and GHG emissions from agricultural and forestry activities;

4.2 A technical guidelines document outlining the approach or approaches to conducting a farm-, ranch-, or forest-scale GHG estimation;

4.3 Specific methods for each source/sink category that are designed to be reliable and consistent with national inventory efforts;

4.4 A quantification where possible of uncertainties in estimation at the entity scale; and

4.5 A user-friendly tool that integrates multiple sources of entity-scale data to facilitate farm-, ranch-, and forest-scale quantification of greenhouse gas emissions and sequestration in a manner consistent with the methods and technical guidelines.

Timeline. The project is planned for completion over the next three years. Implementation of the project will include development of the draft guidelines and methods, technical and peer review, development of estimation and reporting tools and associated documentation, beta testing, solicitation of public comment, and publication of the final guidelines document as well as the estimation and reporting tools.

USDA prohibits discrimination on the basis of race, color, national origin, gender, religion, age, sexual orientation, or disability. Additionally, discrimination on the basis of political beliefs and marital or family status is also prohibited by statutes enforced by USDA (not all prohibited bases apply to all programs). Persons with disabilities who require alternate means for communication of program information (braille, large print, audio tape, etc.) should contact the USDA's Target Center at (202) 720-2000 (voice and TDD). USDA is an equal opportunity provider and employer.

Joseph Glauber,
Chief Economist.

[FR Doc. 2011-3731 Filed 2-17-11; 8:45 am]

BILLING CODE 3410-38-P